DEPARTMENT OF ENERGY

Federal Energy Regulatory Commission

[Docket No. CP03-302-002]

Cheyenne Plains Gas Pipeline Company; Notice of Compliance Filing

November 14, 2003.

Take notice that on November 6, 2003, Cheyenne Plains Gas Pipeline Company (CPG) tendered for filing to its pro forma FERC Gas Tariff, Original Volume No. 1, the following tariff sheets:

Substitute Original Sheet No. 107

Second Substitute Original Sheet No. 255

Substitute Original Sheet No. 268

CPG states that these tariff sheets revise its pro forma tariff to comply with the Commission's Preliminary Determination issued October 22, 2003 in this proceeding.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the eLibrary link.

Protest Date: November 21, 2003.

Magalie R. Salas,
Secretary.

[FR Doc. E3-00352 Filed 11-20-03; 8:45 am]

BILLING CODE 6717-01-P